DEPARTMENT OF THE INTERIOR

Bureau of Land Management

[OR-038-1220-AL; HAG 06-0010]

Meeting Notice for National Historic Oregon Trail Interpretive Center Advisory Board

AGENCY: U.S. Department of the Interior, Bureau of Land Management, Vale District.

SUMMARY: The National Historic Oregon Trail Interpretive Center Advisory Board will meet December 6, 2005, 8 a.m. to 12 p.m. (PST) at the Best Western Sunridge Inn, One Sunridge Way, Baker City, Oregon.

Meeting topics will include a Center Update, Marketing, and other topics as may come before the board. The meeting is open to the public. Public comment is scheduled for 10 to 10:15 a.m.

FOR FURTHER INFORMATION CONTACT: Additional information concerning the National Historic Oregon Trail Interpretive Center Advisory Board may be obtained from Debbie Lyons, Public Affairs Officer, Bureau of Land Management Vale District Office, 100 Oregon Street, Vale, Oregon 97918, (541) 473-6218, e-mail: Debra_Lyons@or.blm.gov.

Dated: October 20, 2005.
David R. Henderson,
District Manager.

[FR Doc. 05-21336 Filed 10-25-05; 8:45 am]

BILLING CODE 4310-33-P